DEPARTMENT OF ENERGY

Federal Energy Regulatory Commission

[Docket No. RP03-563-000]

Northern Border Pipeline Company; Notice of Tariff Filing

August 14, 2003.

Take notice that on August 11, 2003, Northern Border Pipeline Company (Northern Border) tendered for filing to become part of its FERC Gas Tariff, First Revised Volume No. 1, Fifth Revised Sheet Number 270, to become effective September 11, 2003.

Northern Border proposes to revise its tariff, specifically Subsection 26.2(b) of its General Terms and Conditions to (1) clarify that the criteria for an acceptable bid will continue to apply when capacity becomes available on a first-come, first-served basis and (2) allow firm shippers under defined conditions an opportunity to bid on posted available capacity and be awarded such capacity, when the bid is for a shorter path than the posted path, at the Maximum Rate, on a first-come, first-served basis, for a term not to exceed 31 days.

Northern Border states that copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 25, 2003.

Magalie R. Salas,
Secretary.

[FR Doc. 03-21386 Filed 8-20-03; 8:45 am]

BILLING CODE 6717-01-P